OFFICE OF PERSONNEL MANAGEMENT

5 CFR Part 250

Personnel Management in Agencies

AGENCY: Office of Personnel Management.

ACTION: Correcting amendment.

SUMMARY: On December 12, 2016, the Office of Personnel Management (OPM) published revisions to its regulations concerning personnel management in agencies. That document inadvertently failed to properly cite agencies covered by the Chief Financial Officers Act. This document corrects the final regulations.

DATES: Effective November 9, 2018.

FOR FURTHER INFORMATION CONTACT: For information, please contact Jan Chisolm-King by email at janet.chisolm-king@opm.gov or by telephone at (202) 606-1958.

SUPPLEMENTARY INFORMATION: OPM maintains statutory responsibility under 5 U.S.C. 1103(c) to guide, enable, and assess agency strategic human capital management processes. On December 12, 2016, OPM published the Personnel Management in Agencies final rule in the Federal Register (81 FR 89357) to amend 5 CFR 250, subpart B, Strategic Human Capital Management. This document corrects an incorrect cite reference contained in § 250.201 (Coverage and Purpose).

List of Subjects in 5 CFR Part 250

Authority for Personnel actions in agencies, Strategic Human Capital Management.

Accordingly, 5 CFR 250, subpart B, is corrected by making the following correcting amendment:

PART 250—PERSONNEL MANAGEMENT IN AGENCIES

1. The authority citation for part 250 continues to read as follows:

Authority: 5 U.S.C. 1101 note, 1103(a)(5), 1103(c), 1104, 1302, 3301, 3302; E.O. 10577, 12 FR 1259, 3 CFR, 1954-1958 Comp., p. 218; E.O. 13197, 66 FR 7853, 3 CFR 748 (2002).

2. Revise § 250.201 to read as follows:

§ 250.201 Coverage and purpose.

Pursuant to 5 U.S.C. 1103(c), this subpart defines a set of systems, including standards and metrics, for assessing the management of human capital by Federal agencies. These regulations apply to agencies covered by 31 U.S.C. 901(b) of the Chief Financial Officers (CFO) Act of 1990 (Pub. L. 101-576), as well as 5 U.S.C. 1401 and support the performance planning and reporting that is required by sections 1115(a)(3) and (f) and 1116(d)(5) of title 31, United States Code.

Office of Personnel Management.
Alexys Stanley,
Regulatory Affairs Analyst.

[FR Doc. 2018-24501 Filed 11-8-18; 8:45 am]

BILLING CODE 6325-39-P